DEPARTMENT OF ENERGY

Bonneville Power Administration

Horse Heaven Wind Project

AGENCY: Bonneville Power Administration (BPA), Department of Energy (DOE).

ACTION: Notice of intent to prepare an Environmental Impact Statement (EIS).

SUMMARY: This notice announces BPA's intention to prepare an EIS on the proposed Horse Heaven Wind Project (Project), located southwest of the town of Kennewick in Benton County, Washington. Washington Winds Incorporated (Washington Winds) proposes to construct and operate the wind generation facility, which would have a generating capacity up to 225 megawatts (MW). BPA proposes to purchase about 150 MW (up to 50 average megawatts) from the Project and to provide transmission services from an existing BPA transmission line. Washington Winds would construct a transmission line approximately 13 miles long to connect the Project to an existing BPA transmission line. The EIS will identify and analyze the potential environmental impacts to various resources from the temporary construction activities and the ongoing operation of the wind generation site and proposed transmission line. Benton County will be a “cooperating agency,” as contemplated by the National Environmental Policy Act (NEPA) and the Washington State Environmental Policy Act (SEPA).

DATES: An EIS scoping meeting will be held at the location below on October 29, 2001. Written comments are due to the address below no later than November 14, 2001.

ADDRESSES: BPA invites comments and suggestions on the scope of the EIS. Send comment letters and requests to be placed on the Project mailing list to: Communications, Bonneville Power Administration—KC-7, Attn: Horse Heaven Wind Project, P.O. Box 12999, Portland, Oregon, 97212. Comments may also be faxed to 503-230-3285 or email to comment@bpa.gov. Please reference the “Horse Heaven Wind Project” in all communications.

An EIS scoping meeting will be held at the Benton County Public Utility District (PUD) Building, 2721 West 10th Avenue in Kennewick, Washington, from 5 p.m. to 8 p.m. on October 29, 2001. At this informal meeting, information about the Project will be available from BPA environmental and engineering staff, the Project developer, and the consultant who is currently conducting bird studies on the Project site. Printed information on the Project will be available, including maps of the Project area and the location of Project elements. BPA staff will accept oral and written comments on the proposed scope of the EIS and explain how and when comments can be submitted after the meeting.

FOR FURTHER INFORMATION CONTACT: Kimberly St. Hilaire, the Environmental Project Manager, at Bonneville Power Administration—KEC-4, P.O. Box 3621, Portland, Oregon, 97208-3621, or fax 503-230-5699, telephone 503-230-5361, or email krsthilaire@bpa.gov.

SUPPLEMENTARY INFORMATION:

Background

This Project would help to alleviate the current and/or future shortage of electrical power in the Northwest. In addition, there is increased demand on the energy industry to diversify portfolios and produce energy from renewable resources. The Northwest Power Planning Council's Fourth Conservation and Electric Power Plan recommends that Northwest utilities offer green power purchase opportunities as a way to help the region integrate renewable resources into the power system. BPA is committed to power conservation and increasing its supply of renewable resources to help meet demand.

Purpose and Need of Project

BPA needs to acquire additional power generation resources, to acquire power from renewable resources, and to acquire wind generation resources. These needs arise from BPA's statutory obligations and planning directives.

The purpose of the proposed action is to:

• Protect BPA and its utility customers against risks associated with power shortages by diversifying BPA's energy supplies;

• Fulfill BPA's obligations under the Northwest Electric Power Planning and Conservation Act to acquire additional power generation resources, develop renewable energy resources, and encourage the development of renewable energy resources;

• Meet the growing customer demand for energy from renewable resources;

• Ensure consistency with the resource acquisition strategy of BPA's Business Plan EIS (DOE/EIS 0183, June 1995) and Resource Programs EIS (DOE/EIS-0162, February 1993);

• Further the objectives of the President's National Energy Policy (May 2001) to diversify energy sources by making greater use of non-hydro renewable sources such as wind power; and

• Meet the objective in the January 2000 Strategic Plan of BPA's Power Business Line to acquire at least 150 average megawatts of new renewable resources to meet customer demand by the end of fiscal year 2006.

Proposed Action

BPA proposes to execute one or more power purchase and transmission services agreements to acquire about 150 MW (up to 50 average MW) of electrical output from the proposed Horse Heaven Wind Project. The Project would be constructed and operated by Washington Winds. It would consist of the wind generation site and the transmission line that would connect the Project to an existing BPA transmission line. Construction on the Project would begin in 2002 and the Project would operate year-round for at least 20 years.

The privately owned wind generation site where wind turbines, a substation, and other Project elements would be located is in the Horse Heaven Hills. The wind generation site is located within portions of the following Sections within Township 7 North, Range 28 East, Willamette Meridian: Sections 4, 7, 8, 9, 10, 15, 16, 17, and 18.

Land uses within and adjacent to the proposed wind generation site consist primarily of dryland wheat farming, with scattered rural residences. Farming activities could continue adjacent to Project elements during operation of the wind generation facility.

Within the wind generation portion of the Project, approximately 250 wind turbines would be arranged in rows called “strings,” with approximately 250 to 450 feet between turbines in each string, depending upon the turbine size and topographical features. Washington Winds is considering using turbines ranging from 900-kilowatt (kW) to 2,000-kW output each. The proposed turbines would be upwind, dual-speed turbines (i.e., the rotor always faces upwind and turns at one of two constant speeds), mounted on tubular steel towers installed on a reinforced concrete foundation. These turbines would operate during wind speeds of approximately 9 to 56 miles per hour (mph). At speeds greater than approximately 56 mph, the wind turbines automatically cease operating and remain stationary until the wind speeds become slower. The height of the turbines would range from approximately 246 feet to 380 feet, depending upon the type of turbine chosen for the site. Foundations would be either caisson or pad style, ranging from approximately 15 to 50 feet in width and extending 15 to 50 feet underground, depending upon turbine size and ground conditions.

Other Project elements within the wind generation site include small pad-mounted transformers located at the base of each wind turbine tower, access roads, several meteorological towers, a substation, and an Operations and Maintenance (O&M) facility. Power from the turbines would be collected by an underground and overhead cable system that would run between turbines and turbine strings. This system would then feed into a proposed substation, located on the Project site. The fenced substation and O&M facility would each occupy approximately four acres.

A transmission line would lead from the wind generation site to an existing BPA transmission line located to the south, near the town of Plymouth, Washington. The proposed 13-mile long transmission line would be either a 230/287-kilovolt (kV) or 345-kV line, depending on which existing BPA transmission line BPA determines can accept the output of the Project.

The location of the proposed transmission line is currently under consideration. The proposed transmission line would run along or near Plymouth Road, a county road, for most of its length and would likely cross Plymouth Road several times to avoid homes, agricultural facilities, and other transmission lines. Just north of the town of Plymouth, the proposed line may veer to the west of Plymouth Road for several miles, crossing agricultural lands, before connecting to the BPA transmission line. A small tap (fenced area) would be built within the existing BPA right-of-way to connect the proposed transmission line to the existing BPA transmission line. The proposed line would be located within Townships 5, 6, and 7 North, on or near the boundary between Range 27 East and Range 28 East (located within various sections depending on the location of the line).

Process to Date

Washington Winds has applied for a conditional use permit from Benton County. Field surveys to identify bird species that utilize or fly over the site were initiated by Washington Winds in April of 2001 and are ongoing. Scoping will help identify any additional studies that should be conducted.

Proposed Alternatives for Consideration

The alternatives include the proposed action and a no-action alternative. The proposed action alternative is to execute a power purchase agreement for approximately 150 MW (up to 50 average MW) of power from the Project and transmit up to the entire 225 MW output from the project to customers over existing BPA power lines, thereby enabling construction of the Project. The no-action alternative is for BPA to not purchase and transmit any power output from the Project site, thereby not enabling construction of the Project.

Public Participation and Identification of Environmental Issues

The environmental analyses for recent wind power projects in the region have addressed potential environmental issues, including visual issues, noise levels, impacts to cultural resources, socio-economic ramifications, effects on rare plant and animal species, and impacts to wildlife, including migratory birds. BPA has established a 30-day scoping period to enable affected tribes, landowners, concerned citizens, special interest groups, local governments, State and Federal agencies, and other interested parties to comment on the scope of the EIS. Comments will assist BPA in identifying the environmental issues that should be analyzed and addressed. After the public scoping meeting, the following activities are planned in order to satisfy the requirements of NEPA:

• A Draft EIS will be developed and circulated for public review and comment.

• BPA will hold at least one public comment meeting about the Draft EIS.

• Comments on the Draft EIS will be considered and responded to by BPA in the Final EIS.

• The Final EIS is scheduled for publication in 2002.

• BPA's subsequent decision will be documented in a Record of Decision.

Issued in Portland, Oregon, on October 5, 2001.
Stephen J. Wright,
Acting Administratr and Chief Executive Officer.

[FR Doc. 01-25832 Filed 10-12-01; 8:45 am]

BILLING CODE 6450-01-U